DEPARTMENT OF HOMELAND SECURITY

Federal Emergency Management Agency

44 CFR Part 67

[Docket ID FEMA-2010-0003; Internal Agency Docket No. FEMA-B-1105]

Proposed Flood Elevation Determinations

AGENCY: Federal Emergency Management Agency, DHS.

ACTION: Proposed rule; correction.

SUMMARY: On June 3, 2010, FEMA published in the Federal Register a proposed rule that contained an erroneous table. This notice provides corrections to that table, to be used in lieu of the information published at 75 FR 31373. The table provided here represents the flooding sources, location of referenced elevations, effective and modified elevations, and communities affected for Lawrence County, Missouri, and Incorporated Areas. Specifically, it addresses the following flooding sources: Chapel Drain, Clear Creek, Kelly Creek Tributary, Tributary No. 1, Tributary 2, Unnamed Tributary, Unnamed Tributary Number 1, Unnamed Tributary Number 2, Unnamed Tributary Number 3, and Unnamed Tributary Number 4.

DATES: Comments are to be submitted on or before November 1, 2011.

ADDRESSES: You may submit comments, identified by Docket No. FEMA-B-1105, to Luis Rodriguez, Chief, Engineering Management Branch, Federal Insurance and Mitigation Administration, Federal Emergency Management Agency, 500 C Street SW., Washington, DC 20472, (202) 646-4064 or (e-mail) luis.rodriguez1@dhs.gov.

FOR FURTHER INFORMATION CONTACT: Luis Rodriguez, Chief, Engineering Management Branch, Federal Insurance and Mitigation Administration, Federal Emergency Management Agency, 500 C Street SW., Washington, DC 20472, (202) 646-4064 or (e-mail) luis.rodriguez1@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 75 FR 31373, in the June 3, 2010, issue of the Federal Register, FEMA published a table under the authority of 44 CFR 67.4. The table, entitled “Lawrence County, Missouri, and Incorporated Areas” addressed the following flooding sources: Kelly Creek Tributary, Tributary No. 1, Unnamed Tributary, Unnamed Tributary Number 1, Unnamed Tributary Number 2, Unnamed Tributary Number 3, and Unnamed Tributary Number 4. That table contained inaccurate information as to the location of referenced elevation, effective and modified elevation in feet, and/or communities affected for those flooding sources. In addition, it did not include the following flooding sources: Chapel Drain, Clear Creek, and Tributary 2. In this notice, FEMA is publishing a table containing the accurate information, to address these prior errors. The information provided below should be used in lieu of that previously published.

Flooding source(s) | Location of referenced elevation** | *Elevation in feet NGVD) + Elevation in feet (NAVD) # Depth in feet above ground ‸ Elevation in meters (MSL): Effective | *Elevation in feet NGVD) + Elevation in feet (NAVD) # Depth in feet above ground ‸ Elevation in meters (MSL): Modified | Communities affected
Lawrence County, Missouri, and Incorporated Areas
Chapel Drain | Approximately 50 feet upstream of Farm Road 1090 | None | +1335 | Unincorporated Areas of Lawrence County.
| Approximately 0.71 mile upstream of Farm Road 1090 | None | +1379
Clear Creek | Approximately 250 feet downstream of Farm Road 1050 | None | +1233 | Unincorporated Areas of Lawrence County.
| Just upstream of the Barry County boundary | None | +1243
Kelly Creek Tributary | Approximately 0.45 mile downstream of Farm Road 2230 | None | +1365 | Unincorporated Areas of Lawrence County.
| Approximately 100 feet upstream of Farm Road 2230 | None | +1401
Tributary No. 1 | Approximately 50 feet upstream of the Unnamed Tributary confluence | None | +1326 | Unincorporated Areas of Lawrence County.
| Approximately 275 feet upstream of State Highway 37 | None | +1333
Tributary 2 | Just upstream of the Unnamed Tributary confluence | None | +1357 | Unincorporated Areas of Lawrence County.
| Approximately 900 feet upstream of State Route H | None | +1377
Unnamed Tributary | Approximately 1,675 feet downstream of the Barry County boundary | None | +1277 | Unincorporated Areas of Lawrence County.
| Approximately 550 feet upstream of Farm Road 2230 | None | +1383
Unnamed Tributary Number 1 | Approximately 200 feet downstream of Washington Avenue | None | +1372 | City of Aurora.
| Approximately 525 feet upstream of Union Street | None | +1406
Unnamed Tributary Number 2 | Approximately 600 feet upstream of South Street | None | +1359 | City of Aurora.
| Approximately 100 feet upstream of Prospect Street | None | +1402
Unnamed Tributary Number 3 | Approximately 250 feet upstream of the Unnamed Tributary Number 2 confluence | None | +1376 | City of Aurora.
| Approximately at Tyler drive | None | +1390
Unnamed Tributary Number 4 | Approximately 215 feet upstream of Saint Louis Street | None | +1361 | City of Aurora.
| Approximately 650 feet upstream of Lincoln Avenue | None | +1381
* National Geodetic Vertical Datum.
# North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Aurora
Maps are available for inspection at 2 West Pleasant Street, Aurora, MO 65712.
Unincorporated Areas of Lawrence County
Maps are available for inspection at 1 East Courthouse Square, Mt. Vernon, MO 65712.

(Catalog of Federal Domestic Assistance No. 97.022, “Flood Insurance.”)

Dated: July 22, 2011.
Sandra K. Knight,
Deputy Federal Insurance and Mitigation Administrator, Mitigation, Department of Homeland Security, Federal Emergency Management Agency.

[FR Doc. 2011-19548 Filed 8-2-11; 8:45 am]

BILLING CODE 9110-12-P